ENVIRONMENTAL PROTECTION AGENCY

[EPA-HQ-OA-2015-0553; FRL-9941-39-OEI]

Information Collection Request Submitted to OMB for Review and Approval; Comment Request; CEQ-EPA Presidential Innovation Award for Environmental Educators Application (New)

AGENCY: Environmental Protection Agency (EPA).

ACTION: Notice.

SUMMARY: The Environmental Protection Agency has submitted an information collection request (ICR), “CEQ-EPA Presidential Innovation Award for Environmental Educators Application (New)” (EPA ICR No. 2524.01, OMB Control No. 2090-NEW) to the Office of Management and Budget (OMB) for review and approval in accordance with the Paperwork Reduction Act (44 U.S.C. 3501 et seq.). This is a request for approval of a new collection. Public comments were previously requested via the Federal Register (80 FR 48101) on August 11, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 18, 2016.

ADDRESSES: Submit your comments, referencing Docket ID Number EPA-HQ-OA-2015-0553, to (1) EPA online using www.regulations.gov (our preferred method), by email to oei.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Carly Carroll, Office of the Administrator, Office of Environmental Education, MC-1704A, Environmental Protection Agency, 1200 Pennsylvania Ave. NW., Washington, DC 20460; telephone number: 202-564-2769; fax number: 202-564-2754; email address: carroll.carly@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The purpose of this information collection request is to collect information from applicants in order to select recipients for the Presidential Innovation Award for Environmental Educators program. The EPA, in conjunction with the White House Council on Environmental Quality (CEQ), established the award program to meet the requirements of Section 8(e) of the National Environmental Education Act (20 U.S.C. 5507(e)). Teachers can complete their applications online at www.epa.gov/education/piaee-application.

Form Numbers: 6500-04.

Respondents/affected entities: K-12 public school teachers.

Respondent's obligation to respond: Required to obtain a benefit. Presidential Innovation Award for Environmental Educators as established under Section 8(e) of the National Environmental Education Act (20 U.S.C. 5507(e)).

Estimated number of respondents: 75 (total).

Frequency of response: Annually.

Total estimated burden: 750 hours (per year). Burden is defined at 5 CFR 1320.03(b)

Total estimated cost: $28,500 (per year), includes $0 annualized capital or operation & maintenance costs.

Changes in the Estimates: This is a new collection.

Courtney Kerwin,
Acting Director, Collection Strategies Division.

[FR Doc. 2016-00803 Filed 1-15-16; 8:45 am]

BILLING CODE 6560-50-P